DEPARTMENT OF TRANSPORTATION

Federal Aviation Administration

Advisory Circular (AC) 150/5345-53D, Airport Lighting Equipment Certification Program; Proposed Update and Opportunity to Comment

AGENCY: Federal Aviation Administration (FAA), US DOT.

ACTION: Notice of update of AC150/5345-53C to AC150/5345-53D.

SUMMARY: The FAA proposes to replace AC150/5345-53C with AC150/5345-53D to clarify the criteria under the Airport Lighting Equipment Certification Program (ALECP) for acceptance of an organization as a third party certification body (third party certifier) and how manufacturers may get equipment qualified under the program. The Secretary of Transportation is providing notice in the Federal Register of, and an opportunity for public comment on AC150/5345-53D, Airport Lighting Equipment Certification Program.

DATES: Comments must be received on or before August 13, 2012.

ADDRESSES: Comments may be delivered or mailed to the FAA, Airport Engineering Division, AAS-100, Room 621, 800 Independence Avenue SW., Washington, DC 20591.

FOR FURTHER INFORMATION CONTACT: Richard L. Smith, Electronic Engineer, Airport Engineering Division, AAS-100, Room 621, FAA, 800 Independence Avenue SW., Washington, DC 20591; telephone (202) 267-9529.

SUPPLEMENTARY INFORMATION: Advisory Circular 150/5345-53D, Airport Lighting Equipment Certification Program, draft document is available on the Internet. The direct Internet address is: http://www.faa.gov/airports/resources/draft_advisory_circulars. Letter to Manufacturers under the Airport Lighting Equipment Certification Program June 12, 2012:

Federal Aviation Administration (FAA) Draft Advisory Circular (AC) 150/5345-53D, Airport Lighting Equipment Certification Program, is being circulated to interested industry associations to obtain comments and recommendations of actions to be taken. Please review this draft and submit comments as appropriate. Additionally, comments should be submitted on a separate document and not embedded in the draft AC. Additionally, please provide justification for all comments regarding oppositions with recommended modifications. The Office of Airport Safety and Standards may revise the final document as a result of comments received after further review.

This AC describes the Airport Lighting Equipment Certification Program (ALECP). It provides information on how an organization can get Federal Aviation Administration acceptance as a third party certification body (third party certifier) and how manufacturers may get equipment qualified under the program.

Comments received prior to July 31, 2012, will be considered for inclusion in the advisory circular. Concurrence with the enclosure is requested. POC is Richard.L.Smith@faa.gov, phone 202-267-9529.

The document may be obtained in Adobe Acrobat PDF format from the FAA Airports Internet site at http://www.faa.gov/airports/resources/draft_advisory_circulars/. Changes to this document are color-coded in bold blue for your convenience.

Issued in Washington, DC, on June 13, 2012.
Michael J. O'Donnell,
Director, Office of Airport Safety and Standards.

[FR Doc. 2012-15737 Filed 6-26-12; 8:45 am]

BILLING CODE 4910-13-P